DEPARTMENT OF ENERGY

Federal Energy Regulatory Commission

[Docket No. RP01-456-000]

Tennessee Gas Pipeline Company; Notice of Proposed Changes in FERC Gas Tariff

June 14, 2001.

Take notice that on June 11, 2001, Tennessee Gas Pipeline Company (Tennessee) tendered for filing as part of its FERC Gas Tariff, Fifth Revised Volume No. 1, the following tariff sheets, with an effective date of July 11, 2001:

Ninth Revised Sheet No. 301

Second Revised Sheet No. 368

Tennessee states that the revised tariff sheets are being filed to modify Tennessee's tariff to provide for a general waiver of the “shipper must have title rule” in the event that Tennessee is transporting gas for others on acquired off-system capacity and to include a general statement that Tennessee will only transport for others using off-system capacity pursuant to its existing tariff and rates.

Tennessee states that copies of the filing has been mailed to each of Tennessee's customers and affected state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15504 Filed 6-19-01; 8:45 am]

BILLING CODE 6717-01-M